DEPARTMENT OF THE TREASURY

Bureau of the Fiscal Service

Proposed Collection of Information: Claim Against the United States for the Proceeds of a Government Check

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently the Bureau of the Fiscal Service within the Department of the Treasury is soliciting comments concerning revisions to the Form FMS-1133, “Claim Against the United States for the Proceeds of a Government Check.”

DATES: Written comments should be received on or before October 6, 2014 to be assured of consideration.

ADDRESSES: Direct all written comments to Bureau of the Fiscal Service, Bruce A. Sharp, 200 Third Street A4-A, Parkersburg, WV 26106-1328, or bruce.sharp@fiscal.treasury.gov.

FOR FURTHER INFORMATION CONTACT: Requests for additional information or copies of the form(s) and instructions should be directed to Gary Swasey, Customer Service Branch, P.O. Box 603, Philadelphia, PA 19154, (215) 516-8145.

SUPPLEMENTARY INFORMATION: Title: Claim Against the United States for the Proceeds of a Government Check. OMB Control Number: 1530-0010 (Previously approved as 1510-0019 as a collection conducted by Department of the Treasury/Financial Management Service.)

Transfer of OMB Control Number: The Bureau of Public Debt (BPD) and the Financial Management Service (FMS) have consolidated to become the Bureau of the Fiscal Service (Fiscal Service). Information collection requests previously held separately by BPD and FMS will now be identified by a 1530 prefix, designating Fiscal Service.

Form Number: FMS 1133.

Abstract: Form FMS 1133 is used to collect information needed to process an individual's claim for non-receipt of proceeds from a U.S. Treasury check. Once the information is analyzed, a determination is made and a recommendation is submitted to the program agency to either settle or deny the claim.

Current Actions: It has become necessary to introduce a similar form to address non-receipt of electronic benefit payments. It is estimated that an additional 4,000 annual burden hours will be experienced for collection and analysis of the information provided in the claim form, and subsequent actions necessary to reconcile the claim.

Type of Review: Revision of a previously approved collection.

Affected Public: Individuals or Households.

Estimated Number of Respondents: 51,640.

Estimated Time per Respondent: 10 minutes.

Estimated Total Annual Burden Hours: 8,607.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: July 31, 2014.
Bruce A. Sharp,
Bureau Clearance Officer.

[FR Doc. 2014-18512 Filed 8-6-14; 8:45 am]

BILLING CODE 4810-35-P